DEPARTMENT OF ENERGY

National Petroleum Council Meeting

AGENCY: Office of Fossil Energy, Department of Energy.

ACTION: Notice of open meeting.

SUMMARY: This notice announces a meeting of the National Petroleum Council. The Federal Advisory Committee Act requires that public notice of this meeting be announced in the Federal Register. Due to the COVID-19 pandemic, this meeting will be entirely virtual on-line.

DATES: Thursday, December 15, 2020; 2:00 p.m. to 4:00 p.m. (EST).

ADDRESSES: Virtual meeting. Information to access a live stream of the on-line meeting proceedings will be available at https://www.energy.gov/fe/national-petroleum-council-npc.

FOR FURTHER INFORMATION CONTACT: Nancy Johnson, U.S. Department of Energy, Office of Oil and Natural Gas (FE-30), 1000 Independence Avenue SW, Washington, DC 20585; telephone: (202) 586-6458 or email: nancy.johnson@hq.doe.gov.

SUPPLEMENTARY INFORMATION:

Purpose of the Committee: To provide advice, information, and recommendations to the Secretary of Energy on matters relating to oil and natural gas, and the oil and natural gas industries.

Tentative Agenda:

• Call to Order, Introductory Remarks, and Welcome to Participants

• Remarks by the Honorable Dan R. Brouillette, Secretary of Energy

• Remarks by the Honorable Mark W. Menezes, Deputy Secretary of Energy

• Report of the NPC Cochair's Coordinating Committee

• Update on Post-Approval Activities for the 2019 NPC Dynamic Delivery and Dual Challenge Reports

• Administrative Matters

• Discussion of Any Other Business Properly Brought Before the National Petroleum Council

• Adjournment

Public Participation: The meeting is open to the public. The Chair of the Council will conduct the meeting to facilitate the orderly conduct of business. Members of the public who wish to make oral statements pertaining to agenda items should contact Ms. Nancy Johnson at the address or telephone number listed above. Approximately 15 minutes will be reserved for public comments. The time allocated per speaker will depend on the number of requests received, but will not exceed five minutes. Requests for oral statements must be received at least seven days prior to the meeting. Those not able to attend the meeting or having insufficient time to address the Council are invited to send a written statement to nancy.johnson@hq.doe.gov. Any member of the public who wishes to file a written statement to the Council will be permitted to do so, either before or after the meeting.

Minutes: The minutes of the meeting will be available at https://www.energy.gov/fe/national-petroleum-council-npc or by contacting Ms. Johnson. She may be reached at the above postal address or email address.

Signed in Washington, DC, on November 13, 2020.
LaTanya Butler,
Deputy Committee Management Officer.

[FR Doc. 2020-25932 Filed 11-23-20; 8:45 am]

BILLING CODE 6450-01-P